DEPARTMENT OF LABOR

Employment and Training Administration

Investigations Regarding Certifications of Eligibility to Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 29, 2010.

Interested persons are invited to submit written comments regarding the subject matter of the investigations to the Director, Division of Trade Adjustment Assistance, at the address shown below, not later than April 29, 2010.

The petitions filed in this case are available for inspection at the Division of Trade Adjustment Assistance, Employment and Training Administration, U.S. Department of Labor, Room N-5428, 200 Constitution Avenue, NW., Washington, DC 20210.

Signed at Washington, DC, this 7th day of April 2010.
Elliott Kushner,
Certifying Officer, Division of Trade Adjustment Assistance.

Appendix

TAA petitions instituted between 3/15/10 and 3/19/10

TA-W | Subject firm (petitioners) | Location | Date of institution | Date of petition
73703 | Betts, USA (Wkrs) | Florence, KY | 03/15/10 | 01/19/10
73704 | Qantas Airways Ltd (Wkrs) | Los Angeles, CA | 03/15/10 | 03/12/10
73705 | Lap Tech Industries (Wkrs) | Dayton, OH | 03/15/10 | 03/12/10
73706 | Blumental Printworks (Wkrs) | New Orleans, LA | 03/15/10 | 03/11/10
73707 | JD Norman Industries, Inc. (Comp) | Brooklyn, OH | 03/15/10 | 03/12/10
73708 | Hayden Twist Drill (Wkrs) | Warren, MI | 03/15/10 | 03/05/10
73709 | Kurrmi, Inc. (Wkrs) | New York, NY | 03/15/10 | 03/01/10
73710 | Sam Malone Enterprises, Inc. (Wkrs) | City of Industry, CA | 03/15/10 | 03/11/10
73711 | Air Products and Chemicals, Inc. (Wkrs) | Allentown, PA | 03/16/10 | 03/05/10
73712 | Fiserv Fulfillment Services, Inc. (Rep) | St. Louis Park, MN | 03/16/10 | 03/10/10
73713 | General Electric (Comp) | Euclid, OH | 03/16/10 | 03/03/10
73714 | Interscope Manufacturing, Inc. (Wkrs) | Middletown, OH | 03/16/10 | 03/09/10
73715 | Axiant, LLC (Wkrs) | Huntersville, NC | 03/16/10 | 02/16/10
73716 | Kmart (Sears holding Corp) (Comp) | Huber Heights, OH | 03/17/10 | 03/10/10
73717 | Aperto Networks Inc. (Wkrs) | Milpitas, CA | 03/17/10 | 03/15/10
73718 | Medica (STATE) | Minnesota, MN | 03/17/10 | 03/16/10
73719 | Franklin Disposables LP (Wkrs) | Columbus, OH | 03/17/10 | 03/16/10
73720 | Apria Health Care (Wkrs) | Irving, TX | 03/17/10 | 03/15/10
73721 | RCL Burco, Inc. (COMP) | Culloden, WV | 03/17/10 | 03/16/10
73722 | Sojitz Corporation of America (ONE-ST) | Seattle, WA | 03/17/10 | 03/15/10
73723 | First Solutions (STATE) | Duluth, MN | 03/17/10 | 03/16/10
73724 | Rhinestahl Corporation (STATE) | Cincinnati, OH | 03/17/10 | 03/15/10
73725 | Michaels (Wkrs) | Irving, TX | 03/17/10 | 03/10/10
73726 | Pentair Water (COMP) | Ashland, OH | 03/17/10 | 03/04/10
73727 | The Berry Company (COMP) | Honolulu, HI 968813, HI | 03/17/10 | 03/10/10
73728 | The Berry Company (COMP) | St. Peters, MO | 03/17/10 | 03/10/10
73729 | The Berry Company, LLC (LIYP) (COMP) | La Crosse, WI | 03/17/10 | 03/10/10
73730 | The Berry Company, LLC (LIYP) (COMP) | Federal Way, WA | 03/17/10 | 03/10/10
73731 | The Berry Company, LLC (LIYP) (Comp) | Erie, PA | 03/17/10 | 03/10/10
73732 | The Berry Company, LLC (LIYP) (COMP) | Rochester, NY | 03/17/10 | 03/10/10
73733 | The Berry Company, LLC (LIYP) (COMP) | Matthews, NC | 03/17/10 | 03/10/10
73734 | Purchasingnet, Inc. (Wkrs) | Austin, TX | 03/17/10 | 03/16/10
73735 | Product Action (ONE-ST) | Dayton, OH | 03/17/10 | 03/05/10
73736 | Toyota engineering and Manufacturing North America Team (TEMA) (State) | Fremont, CA | 03/18/10 | 03/17/10
73737 | Cullman Casting Corporation (State) | Cullman, AL | 03/18/10 | 03/17/10
73738 | Allied Systems, Ltd. (Comp) | Atlanta, GA | 03/18/10 | 03/17/10
73739 | World Wide Technology (Wkrs) | St. Louis, MO | 03/18/10 | 03/17/10
73740 | Allstate Insurance Company (State) | Northbrook, IL | 03/18/10 | 03/12/10
73741 | Kenco/Komptsu America (State) | Lexington, KY | 03/18/10 | 03/16/10
73742 | Covidien (Comp) | Oriskany Falls, NY | 03/18/10 | 03/17/10
73743 | American Fiber and Finishing, Inc. (Comp) | Allemarte, NC | 03/18/10 | 03/17/10
73744 | Sony Ericsson, USA (Wkrs) | Research Triangle Park, NC | 03/18/10 | 02/15/10
73745 | Zumtobel Lighting Inc. (UAW) | Garfield, NJ | 03/19/10 | 03/17/10
73746 | Price Water House Coopers LLP (Wkrs) | New York, NY | 03/19/10 | 03/17/10
73747 | Payroll Solutions/Synergy (Wkrs) | North Las Vegas, NV | 03/19/10 | 03/17/10
73748 | Commercial Construction Management and Resource (STATE) | Milford, OH | 03/19/10 | 03/09/10
73749 | Assembly and Test Worldwide, Inc. (STATE) | Shelton, CT | 03/19/10 | 03/17/10
73750 | General Motors Corporation (Wkrs) | Detroit, MI | 03/19/10 | 03/08/10
73751 | RHealth, LLC (STATE) | Memphis, TN | 03/19/10 | 03/17/10
73752 | Industrial Metal Products Corp. (STATE) | Lansing, MI | 03/19/10 | 03/17/10

[FR Doc. 2010-8867 Filed 4-16-10; 8:45 am]

BILLING CODE 4510-FN-P